DEPARTMENT OF THE TREASURY

Departmental Offices/Federal Consulting Group; Proposed Collection: Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Federal Consulting Group within the Department of the Treasury is soliciting comments concerning the American Customer Satisfaction Index (ACSI) E-Government Web site Customer Satisfaction Survey.

DATES: Written comments should be received on or before August 18, 2008 to be assured of consideration.

ADDRESSES: Direct all written comments to the Federal Consulting Group, Attention: Ron Oberbillig, 799 9th Street, NW., 8th Floor, Washington, DC 20001, (202) 504-3656, Ron.Oberbillig@bpd.treas.gov.

FOR FURTHER INFORMATION CONTACT: Requests for additional information or copies of the form(s) and instructions should be directed to the Federal Consulting Group, Attention: Ron Oberbillig, 799 9th Street, NW., 8th Floor, Washington, DC 20001, (202) 504-3656, Ron.Oberbillig@bpd.treas.gov.

SUPPLEMENTARY INFORMATION: Title: American Customer Satisfaction Index (ACSI) E-Government Web site Customer Satisfaction Survey.

OMB Number: 1505-0186.

Abstract: The proposed renewal of this information collection activity supports continued use of a proven methodology to measure and improve customer satisfaction with federal government agency Web sites. The Federal Consulting Group of the Department of the Treasury serves as the executive agent for this project and has contracted with ForeSee Results, Inc., to offer this assessment service to federal government agencies.

ForeSee Results is a leader in customer satisfaction and customer experience management on the Web. It utilizes the methodology of the most respected, credible, and well-known measure of customer satisfaction in the country, the American Customer Satisfaction Index (ACSI). This methodology combines survey data and a patented econometric model to precisely measure the customer satisfaction of Web site users, identify specific areas for improvement, and determine the impact of those improvements on customer satisfaction and future customer behaviors.

The ACSI is the only cross-industry, cross-agency methodology for obtaining comparable measures of customer satisfaction with federal government programs and/or Web sites. Along with other economic objectives, the quality of goods and services is a part of measuring living standards. The ACSI's ultimate purpose is to help improve the quality of goods and services available to the American people, including those provided by the federal government.

The ACSI E-Government Web site Customer Satisfaction Surveys will be completed subject to the Privacy Act of 1974, Public Law 93-579, December 31, 1974 (5 U.S.C. 522a). The agency information collection will be used solely for the purpose of the survey. The contractor will not be authorized to release any agency information obtained through surveys without first obtaining permission from the Federal Consulting Group and the participating agency. In no case shall any new system of records containing privacy information be developed by the Federal Consulting Group, participating agencies, or the contractor collecting the data. In addition, participating federal agencies may only provide information sufficient to randomly select Web site visitors as potential survey respondents.

This survey asks no questions of a sensitive nature, such as sexual behavior and attitudes, religious beliefs, and other matters that are commonly considered private.

Current Actions: Proposed renewal of collection of information.

Type of Review: Renewal.

Affected Public: Individuals or households/business or other for-profit/not-for-profit institutions/farms/federal government/state, local or tribal government.

Estimated Number of Respondents: Usage by federal agencies of the Government Web site Customer Satisfaction Survey is expected to vary as new agency Web sites are added or deleted. However, projected estimates for fiscal years 2008 through 2010 are as follows:

Fiscal Year 2008—200 Customer Satisfaction Surveys

Respondents: 1,000,000; annual responses: 1,000,000; average minutes per response: 2.5; burden hours: 41,667.

Fiscal Year 2009—250 Customer Satisfaction Surveys

Respondents: 1,250,000; annual responses: 1,250,000; average minutes per response: 2.5; burden hours: 52,083.

Fiscal Year 2010—300 Customer Satisfaction Surveys

Respondents: 1,500,000; annual responses: 1,500,000; average minutes per response: 2.5; burden hours: 62,500.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: June 12, 2008.
Ron Oberbillig,
COO, Federal Consulting Group.

[FR Doc. E8-13716 Filed 6-17-08; 8:45 am]

BILLING CODE 4810-25-P